DEPARTMENT OF TRANSPORTATION

Federal Aviation Administration

14 CFR Part 39

[Docket No. FAA-2016-3343; Product Identifier 2015-SW-078-AD]

RIN 2120-AA64

Airworthiness Directives; Airbus Helicopters

AGENCY: Federal Aviation Administration (FAA), DOT.

ACTION: Supplemental notice of proposed rulemaking (SNPRM); reopening of comment period.

SUMMARY: The FAA is revising an earlier proposal to supersede Airworthiness Directive (AD) 2014-12-12, which applies to certain Airbus Helicopters Model EC120B and EC130B4 helicopters. This action revises the notice of proposed rulemaking (NPRM) by revising the compliance time, expanding the applicability, and providing improved procedures for modifying the sliding door star support as specified in a European Union Aviation Safety Agency (EASA) AD, which will be incorporated by reference. The FAA is proposing this AD to address the unsafe condition on these products. Since these actions would impose an additional burden over those in the NPRM, the FAA is reopening the comment period to allow the public the chance to comment on these changes.

DATES: The comment period for the NPRM published in the Federal Register on October 26, 2016 (81 FR 74362), is reopened.

The FAA must receive comments on this SNPRM by November 6, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2016-3343.

Examining the AD Docket

You may examine the AD docket on the internet at https://www.regulations.gov by searching for and locating Docket No. FAA-2016-3343; or in person at Docket Operations between 9 a.m. and 5 p.m., Monday through Friday, except Federal holidays. The AD docket contains this SNPRM, any comments received, and other information. The street address for Docket Operations is listed above. Comments will be available in the AD docket shortly after receipt.

FOR FURTHER INFORMATION CONTACT: David Hatfield, Aviation Safety Engineer, Rotorcraft Standards Branch, FAA, 10101 Hillwood Pkwy., Fort Worth, TX 76177; telephone 817-222-5116; email david.hatfield@faa.gov.

SUPPLEMENTARY INFORMATION:

Comments Invited

The FAA invites you to participate in this rulemaking by submitting written comments, data, or views about this proposal. The most helpful comments reference a specific portion of the proposal, explain the reason for any recommended change, and include supporting data. To ensure the docket does not contain duplicate comments, commenters should send only one copy of written comments, or if comments are filed electronically, commenters should submit only one time. Send your comments to an address listed under the ADDRESSES section. Include “Docket No. FAA-2016-3343; Product Identifier 2015-SW-078-AD” at the beginning of your comments.

Except for Confidential Business Information (CBI) as described in the following paragraph, and other information as described in 14 CFR 11.35, the FAA will post all comments received, without change, as well as a report summarizing each substantive public contact with FAA personnel concerning this proposed rulemaking. Before acting on this proposal, the FAA will consider all comments received by the closing date for comments. The FAA will consider comments filed after the comment period has closed if it is possible to do so without incurring expense or delay. The FAA may change this NPRM because of those comments.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to David Hatfield, Aviation Safety Engineer, Rotorcraft Standards Branch, FAA, 10101 Hillwood Pkwy., Fort Worth, TX 76177; telephone 817-222-5116; email david.hatfield@faa.gov. Any commentary that the FAA receives which is not specifically designated as CBI will be placed in the public docket for this rulemaking.

Discussion

The FAA issued AD 2014-12-12, Amendment 39-17873 (79 FR 36638, June 30, 2014) (“AD 2014-12-12”). AD 2014-12-12 requires actions to address an unsafe condition on certain Airbus Helicopters Model EC120B and EC130B4 helicopters. AD 2014-12-12 requires inspecting the upper and lower locking pin control rod fittings for a bend, twist, or breakage and the star support pin for a crack; replacing control rod end fittings and star support pins if necessary; and reinforcing the sliding door star support stringer by installing three carbon fabric plies.

The FAA issued an NPRM to amend 14 CFR part 39 by adding an AD to supersede AD 2014-12-12 that would apply to certain Airbus Helicopters Model EC120B and EC130B4 helicopters. The NPRM published in the Federal Register on October 26, 2016 (81 FR 74362) (“the NPRM”). The NPRM was prompted by a report of passengers not being able to open a helicopter's left-hand door after landing. The NPRM proposed to require inspecting each upper and lower locking pin control rod end fitting and replacing it if necessary, cleaning and dye-penetrant inspecting the star support pin for cracking and replacing it if necessary, and reinforcing the sliding door star support stringer.

Actions Since Previous NPRM Was Issued

Since the FAA issued the NPRM, there have been several incidents involving helicopter left-hand doors (both swinging and sliding) that revealed weaknesses in the locking mechanism. The FAA has determined the NPRM must be revised by revising the compliance time, expanding the applicability, and providing improved procedures for modifying the sliding door star support.

The EASA, which is the Technical Agent for the Member States of the European Union, has issued EASA AD 2020-0095, dated April 29, 2020 (“EASA AD 2020-0095”) (referred to after this as the Mandatory Continuing Airworthiness Information, or “the MCAI”), to correct an unsafe condition for certain Airbus Helicopters Model EC120B and EC130B4 helicopters. EASA advises that, after landing, the passengers on an Airbus Helicopters Model EC120B helicopter could not open the sliding door from inside. The passengers had to leave the helicopter through the other door. The results of the subsequent investigation revealed failure of a sliding door star axle support. This condition, if not corrected, could delay the evacuation from the helicopter in case of emergency, possibly resulting in injury to the occupants.

EASA AD 2020-0095 superseded EASA AD 2015-0020, dated February 11, 2015 (“EASA AD 2015-0020”), which corresponds to FAA NPRM, Docket No. FAA-2016-3343. EASA AD 2015-0020 superseded EASA AD 2013-0093, dated April 15, 2013; corrected April 17, 2013, which corresponds to FAA AD 2014-12-12.

EASA AD 2020-0095 revises the compliance time that was specified in EASA AD 2015-0020 and expands the applicability.

You may examine the MCAI in the AD docket on the internet at https://www.regulations.gov by searching for and locating Docket No. FAA-2016-3343.

This proposed AD was prompted by a report of passengers not being able to open a helicopter's left-hand door after landing. The FAA is proposing this AD to address failure of the sliding door star support, which could inhibit the operation of the sliding door from the inside, delaying the evacuation of passengers during an emergency. See the MCAI for additional background information.

Related Material Under 1 CFR Part 51

EASA AD 2020-0095 describes improved procedures for modifying the door locking/unlocking mechanism (e.g. modifying the sliding door star support by installing a reinforcing bracket and replacing rod ends). This material is reasonably available because the interested parties have access to it through their normal course of business or by the means identified in the ADDRESSES section.

Comments

The FAA gave the public the opportunity to participate in developing this proposed AD. The following presents the comment received on the NPRM and the FAA's response to that comment.

Request To Refer to Revised Service Information

Airbus Helicopters proposed that the service information specified in the NPRM be revised because it was not the current revision level. The commenter stated that revising the service information to reflect the current revision level would prevent having to revise the final rule in the near future. The commenter explained that Airbus Helicopters Alert Service Bulletin EC120-52A018, Revision 01; and Alert Service Bulletin EC130-52A019, Revision 01, were released July 12, 2016, and included improved procedures for replacing the rod ends and installing the reinforcements of the sliding door star support. The commenter noted that the revised service information also included additional helicopters in the effectivity.

The FAA acknowledges the commenter's concern regarding the revision level of the service information specified in the proposed AD (in the NPRM). Since the FAA issued the NPRM, the AD format has changed and instead of specifying the required service information in paragraph (g), Requirements, of this proposed AD (SNPRM), operators would be required to comply with all required actions and compliance times specified in, and in accordance with, EASA AD 2020-0095, except for any differences identified as exceptions in the regulatory text of this proposed AD and except as discussed under “Differences Between This Proposed AD and the MCAI.” EASA AD 2020-0095 specifies that operators must use Airbus Helicopters Alert Service Bulletin EC120-52A018, Revision 01; and Alert Service Bulletin EC130-52A019, Revision 01, both dated July 12, 2016, as the required service information. The FAA has not changed this proposed AD (SNPRM) in regard to this issue.

FAA's Determination and Requirements of This Proposed AD

This product has been approved by the aviation authority of another country, and is approved for operation in the United States. Pursuant to the bilateral agreement with the State of Design Authority, the FAA has been notified of the unsafe condition described in the MCAI referenced above. The FAA is proposing this AD because the FAA evaluated all the relevant information and determined the unsafe condition described previously is likely to exist or develop in other products of the same type design.

Proposed AD Requirements

This proposed AD would require accomplishing the actions specified in EASA AD 2020-0095 described previously, as incorporated by reference, except for any differences identified as exceptions in the regulatory text of this AD and except as discussed under “Differences Between this Proposed AD and the MCAI.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2020-0095 will be incorporated by reference in the FAA final rule. This proposed AD would, therefore, require compliance with EASA AD 2020-0095 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0095 that is required for compliance with EASA AD 2020-0095 will be available on the internet at https://www.regulations.gov by searching for and locating Docket No. FAA-2016-3343 after the FAA final rule is published.

Differences Between This Proposed AD and the MCAI

EASA AD 2020-0095 specifies to do the modification within 24 months. This proposed AD would require the modification be done within 460 hours time-in-service (TIS), based on an average of 230 hours TIS per year. The FAA has determined this compliance time represents the maximum interval of time allowable for the affected helicopters to continue to safely operate before the modification is done.

Costs of Compliance

The FAA estimates that this proposed AD affects 355 helicopters of U.S. registry. The FAA estimates the following costs to comply with this proposed AD:

Estimated Costs for Required Actions
Labor cost | Parts cost | Cost per product | Cost on U.S. operators
20 work-hours × $85 per hour = $1,700 | $642 | $2,342 | $831,410

According to the manufacturer, some or all of the costs of this proposed AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-12-12, Amendment 39-17873 (79 FR 36638, June 30, 2014), and adding the following new AD:

Airbus Helicopters: Docket No. FAA-2016-3343; Product Identifier 2015-SW-078-AD.

(a) Comments Due Date

The FAA must receive comments by November 6, 2020.

(b) Affected ADs

This AD replaces AD 2014-12-12, Amendment 39-17873 (79 FR 36638, June 30, 2014) (“AD 2014-12-12”).

(c) Applicability

This AD applies to Airbus Helicopters Model EC120B and EC130B4 helicopters, certificated in any category, as identified in European Union Aviation Safety Agency (EASA) AD 2020-0095, dated April 29, 2020 (“EASA AD 2020-0095”).

(d) Subject

Joint Aircraft System Component (JASC) Code 5200, Doors.

(e) Reason

This AD was prompted by reports of passengers not being able to open a helicopter's left-hand door after landing. The FAA is issuing this AD to address failure of the sliding door star support, which could inhibit the operation of the sliding door from the inside, delaying the evacuation of passengers during an emergency.

(f) Compliance

Comply with this AD within the compliance times specified, unless already done.

(g) Requirements

Except as specified in paragraph (h) of this AD: Comply with all required actions and compliance times specified in, and in accordance with, EASA AD 2020-0095.

(h) Exceptions to EASA AD 2020-0095

(1) Where EASA AD 2020-0095 refers to its effective date, this AD requires using the effective date of this AD.

(2) Where paragraph (1) of EASA AD 2020-0095 specifies to complete the actions within 24 months after its effective date, this AD requires completion within 460 hours time-in-service after the effective date of this AD.

(3) The “Remarks” section of EASA AD 2020-0095 does not apply to this AD.

(4) Although the service information referenced in EASA AD 2020-0095 specifies to discard certain parts, this AD does not include that requirement.

(i) Alternative Methods of Compliance (AMOCs)

(1) The Manager, Rotorcraft Standards Branch, FAA, may approve AMOCs for this AD. Send your proposal to: David Hatfield, Aviation Safety Engineer, Rotorcraft Standards Branch, FAA, 10101 Hillwood Pkwy., Fort Worth, TX 76177; telephone 817-222-5116; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(j) Related Information

(1) For information about EASA AD 2020-0095, contact the EASA, Konrad-Adenauer-Ufer 3, 50668 Cologne, Germany; telephone +49 221 8999 000; email ADs@easa.europa.eu; internet www.easa.europa.eu. You may find this EASA AD on the EASA website at https://ad.easa.europa.eu. You may view this material at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2016-3343.

(2) For more information about this AD, contact David Hatfield, Aviation Safety Engineer, Rotorcraft Standards Branch, FAA, 10101 Hillwood Pkwy., Fort Worth, TX 76177; telephone 817-222-5485; email david.hatfield@faa.gov.

Issued on September 15, 2020.
Lance T. Gant,
Director, Compliance & Airworthiness Division, Aircraft Certification Service.

[FR Doc. 2020-20718 Filed 9-21-20; 8:45 am]

BILLING CODE 4910-13-P